DEPARTMENT OF TRANSPORTATION

Federal Aviation Administration

14 CFR Part 39

[Docket No. FAA-2007-29173; Directorate Identifier 2006-NM-283-AD; Amendment 39-15989; AD 2009-16-06]

RIN 2120-AA64

Airworthiness Directives; Boeing Model 767 Airplanes

AGENCY: Federal Aviation Administration (FAA), DOT.

ACTION: Final rule.

SUMMARY: We are adopting a new airworthiness directive (AD) for all Boeing Model 767 airplanes. This AD requires installing an automatic shutoff system for the auxiliary fuel tank override/jettison fuel pumps (also referred to as center tank fuel pumps in the airplane flight manual (AFM)), revising the AFM to advise the flightcrew of certain operating restrictions for airplanes equipped with an automatic auxiliary fuel tank pump shutoff control, and, for certain airplanes, installing a placard to alert the flightcrew of certain fuel usage restrictions. This AD provides optional terminating actions for certain requirements. This AD results from a design review of the fuel tank systems. We are issuing this AD to prevent an overheat condition outside the center tank fuel pump explosion-resistance area that is open to the pump inlet, which could cause an ignition source for the fuel vapors in the fuel tank and result in fuel tank explosions and consequent loss of the airplane.

DATES: This AD is effective September 9, 2009.

The Director of the Federal Register approved the incorporation by reference of certain publications listed in the AD as of September 9, 2009.

The Director of the Federal Register approved the incorporation by reference of certain other publications listed in this AD as of September 4, 2001 (66 FR 39417, July 31, 2001).

ADDRESSES: For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Douglas Bryant, Aerospace Engineer, Propulsion Branch, ANM-140S, FAA, Seattle Aircraft Certification Office, 1601 Lind Avenue, SW., Renton, Washington 98057-3356; telephone (425) 917-6505; fax (425) 917-6590.

SUPPLEMENTARY INFORMATION:

Discussion

We issued a notice of proposed rulemaking (NPRM) to amend 14 CFR part 39 to include an airworthiness directive (AD) that would apply to all Boeing Model 767 airplanes. That NPRM was published in the Federal Register on September 11, 2007 (72 FR 51725). That NPRM proposed to require installing an automatic shutoff system for the auxiliary fuel tank override/jettison pumps (referred to as center tank fuel pumps in the airplane flight manual (AFM)), revising the AFM to advise the flightcrew of certain operating restrictions for airplanes equipped with an automatic auxiliary fuel tank pump shutoff control, revising the Airworthiness Limitations Section (AWL) of certain maintenance documents to include new inspections of the automatic shutoff system for the auxiliary fuel tank override/jettison pumps, and, for certain airplanes, installing a placard to alert the flightcrew of certain fuel usage restrictions.

Actions Since NPRM was Issued

To avoid including redundant requirements in this AD, we have removed the proposed requirement to revise the AWL section of certain maintenance documents to include new inspections of the automatic shutoff system for the auxiliary fuel tank override/jettison pumps. This AWL revision is already required by AD 2008-11-01, amendment 39-15523 (73 FR 29414, May 21, 2008), for certain Boeing Model 767-200, -300, -300F, and -400ER series airplanes, with an original standard airworthiness certificate or original export certificate issued before April 22, 2006. Airplanes with a certificate issued on or after April 22, 2006, must already be compliant with the AWL revision because those limitations were applicable as part of the airworthiness certification of those airplanes. We have removed the AWL revision requirement from this AD (which was in paragraph (i) of the NPRM) and re-identified subsequent paragraphs.

We have combined the AFM text proposed in paragraphs (h)(1) and (h)(2) of the NPRM into one paragraph, paragraph (h), in this AD. Doing this moved the proposed revisions for the Normal Procedures section of the AFM and placed them with the other proposed revisions for the Certificate Limitation section of the AFM. We determined that the Certification Limitation section is the more appropriate section in the AFM for all of the revisions because the revisions are intended to be airplane limitations. In the De-fueling and Fuel Transfer section of the AFM text, we revised the text to address all fuel pumps instead of only the center tank fuel pumps. The same concern (potential ignition source) for dry running during de-fueling exists for the main tank pumps. The limitation revisions required in this AD are similar to the limitations that have been placed on other Boeing airplane models in similar AD actions.

We have also revised the text in paragraph (m) of this AD (the Alternative Methods of Compliance (AMOC) paragraph) to include more contact information and further clarification on the AMOC process.

Boeing issued Revision 2, dated February 12, 2009, to Service Bulletin 767-28A0083. We have revised paragraph (f) of this AD to reference Revision 2 of the service bulletin and have revised paragraph (g) of this AD to provide credit for Boeing Service Bulletin 767-28A0083, Revision 1, dated April 26, 2007. Revision 2 of this service bulletin corrects the wiring configuration group for some airplanes, and adds and corrects some figures and references.

Comments

We gave the public the opportunity to participate in developing this AD. We considered the comments received from the six commenters.

Request to Clarify Service Bulletin

TDG Aerospace (TDG) states that after reviewing the requirements in Section 25.981 of the Federal Aviation Regulations (14 CFR 25.981), it questions whether the service bulletins (listed in the following table) referenced in the NPRM are FAA approved.

Table—Service Bulletins Referenced in the NPRM
Boeing Alert Service Bulletin— | Revision— | Dated—
767-28A0083 | 1 | April 26, 2007.
767-28A0083 | Original | May 3, 2006.
767-28A0084 | 1 | April 26, 2007.
767-28A0084 | Original | May 3, 2006.

We have determined that the service information referenced in this AD meets applicable requirements and is FAA-approved. No change to this AD is necessary in this regard.

Request To Exclude Airplanes With Deactivated Center Fuel Tanks

All Nippon Airways (ANA) and ABX Air request that we exclude airplanes with deactivated center fuel tanks from the requirements of the NPRM. ANA suggests that we revise the applicability of the NPRM to exclude airplanes with deactivated center fuel tanks. ANA states that the center wing tank pumps of airplanes with deactivated center fuel tanks do not have power provided to the pumps and, therefore, do not pose a risk of ignition. ABX Air suggests that we add a paragraph stating that no action is required for airplanes with center fuel tanks deactivated in accordance with Boeing Alert Service Bulletin 767-28A0050, dated December 18, 1997; or Boeing Service Bulletin 767-28A0050, Revision 1, dated December 22, 1999. ABX Air also states that if pumps cannot operate, the identified unsafe condition is eliminated. ABX Air also states that paragraph (j) of the NPRM proposes to require placards and that requiring placards that refer to AD 2001-15-08, amendment 39-12342 (66 FR 39417, July 31, 2001) is inappropriate for airplanes with deactivated fuel tanks.

We partially agree. We agree that deactivated center tank pumps do not pose an ignition risk because there is no power provided to these pumps. But to ensure that power cannot be applied to the pumps, we must specifically require the method of deactivation. Boeing Alert Service Bulletin 767-28A0050, dated December 18, 1997; or Boeing Service Bulletin 767-28A0050, Revision 1, dated December 22, 1999; provide adequate procedures for deactivating the center fuel tanks. Deactivation of center tanks in accordance with these service bulletins is approved as an optional terminating action for the requirements of paragraphs (f), (h), and (i) of this AD, as indicated in new paragraph (j) of this AD. For airplanes with tanks deactivated in a different manner, operators must request approval of an AMOC, as specified in paragraph (m) of this AD, and provide data to substantiate that the deactivation methods will ensure the safety of the airplane. We have also added new paragraph (k) to this AD to address airplanes on which the center fuel tanks are reactivated.

In regard to the commenter's statement that requiring placards is inappropriate for airplanes with deactivated fuel tanks, we agree that the fuel management placard specified in paragraph (i) of this AD is not necessary for airplanes with deactivated center fuel tanks. We have included this information in paragraphs (j) and (k) of this AD accordingly.

Request To Allow Operating Limitations as Terminating Action

UPS requests that we revise the NPRM to allow compliance with certain operating limitations specified in AD 2001-15-08 (shutting off the pumps below certain fuel weight limits) and AFM limitations specified in the NPRM as terminating action for paragraphs (f) and (i) of the NPRM (automatic shutoff system installation and fuel pump operation limitations). According to UPS:

The benefit of having the automatic shutoff system is achieved only if the flight crew fails to follow procedure. In this instance, the issue becomes a flight crew training issue which needs to be addressed in a different and more appropriate medium.

UPS also states that because AD 2001-15-08 limits operation of the center fuel tank to more than 1,000 pounds of fuel at all times, the fuel pump is submerged and there is no potential for an ignition source.

UPS asserts that, when the pumps remain submerged with 1,000 pounds of fuel, there is no opportunity for ignition sources to develop from the pump, and those conditions effectively provide a level of safety higher than that provided by installing the pump automatic shutoff as proposed in the NPRM.

We disagree. AD 2001-15-08 requires, among other things, revising the AFM to include procedures that will ensure that the center tank fuel pumps are always operated with useable fuel levels (1,000 pounds or more). However, that AD addressed a specific problem with the center tank fuel pumps that could lead to an ignition source in the fuel tank. Shutting off pumps with 1,000 pounds of fuel remaining is regarded only as interim action for that specific unsafe condition, until the pump power control system changes are incorporated. Even in the absence of specific fuel pump ignition source issues, the fuel pump indication features and crew procedures in the original design are now considered to need corrective action to eliminate the reliance on flight crew procedures to prevent extended dry pump operation. We are aware of numerous accounts of pilots failing to turn pumps off at the current requirement of 1,000 pounds. We have, therefore, determined that installing the automatic shutoff system provides a higher level of safety because it prevents extended dry running of the fuel pumps. We have not changed this AD regarding this issue.

Request To Clarify Airplanes Affected by Certain Requirements

Boeing requests that we revise certain paragraphs of the NPRM to identify affected airplanes. According to Boeing, Model 767 airplanes beginning with line number 941 (VR088) have the center tank fuel pump automatic shutoff system installed in production and should be excluded from the retrofit requirements.

We agree, for the reason provided by Boeing. We have revised paragraphs (f) and (h) of this AD to clarify the airplanes affected by the requirements of those paragraphs.

Request To Include Means of Compliance for Universal Fault Interrupter (UFI)

TDG states that it is currently certifying its UFI for use on Model 767 airplanes. TDG claims that the UFI, already implemented on other Boeing airplanes, will provide (1) a center tank override pump automatic shutoff, (2) uncommanded run protection (from control relay failed in the “ON” position), and (3) electrical fault protection (line-to-ground, line-to-line, open phases, etc.). TDG, therefore, requests that we include the UFI as a means of compliance, if the supplemental type certificate (STC) for the Model 767 UFI is approved before the final rule is issued.

We disagree with the commenter's request. At this time, the TDG 767 STC has not yet been approved, so we cannot identify it as a method of compliance for this AD. However, we recognize that a similar TDG STC has been approved for Boeing Model 757 airplanes and that it was identified as a method of compliance for a similar AD related to that model. Once the 767 STC is issued, TDG may apply for approval of an AMOC for the design, as provided by paragraph (m) of this AD.

Request To Match AFM and NPRM Language

Japan Airlines (JAL) advises of a discrepancy between the wording in the corresponding portions of Boeing's current AFM and the original NPRM. Paragraph (h)(2) of the NPRM states that center tank fuel “pumps” must not be on, but the latest revision to the AFM states that center tank fuel “pump switches” must not be on.

We agree. The current AFM (correctly) contains the word “switches.” As the commenter points out, the wording should be consistent in both the AFM and this document. We have revised paragraph (h) of this AD accordingly.

Request To Revise Description of Affected Pumps

Boeing requests that we revise the Summary and Relevant Service Information sections of the NPRM. Specifically, reference to the “auxiliary fuel tank boost pump” should be changed to the “override/jettison fuel pump” as the appropriate fuel pump in the auxiliary tank. Boeing adds that references to fuel “boost pumps” are typically associated with fuel pumps located in the main tanks, so referring to auxiliary fuel pumps as “boost pumps” could be confusing.

We agree that the wording identified by the commenter could be confusing. We have revised the Summary section and other relevant sections in this AD as requested. The Relevant Service Information section, however, is not repeated in this final rule. We have also revised references to auxiliary tank pumps to “center tank fuel pumps” throughout the rest of this AD for clarity and consistency with the AFM text.

Request to Correct Paragraph Reference

JAL points out that Note 2 of the NPRM refers to paragraph (g) of the AD, but should refer to paragraph (h). We agree and have revised Note 1 in this AD (which was Note 2 in the NPRM) accordingly.

Conclusion

We reviewed the relevant data, considered the comments received, and determined that air safety and the public interest require adopting the AD with the changes described previously. We also determined that these changes will not increase the economic burden on any operator or increase the scope of the AD.

Costs of Compliance

We estimate that this AD affects 414 airplanes of U.S. registry. The following table provides the estimated costs for U.S. operators to comply with this AD. The fleet cost could be as high as $4,655,016.

Estimated Costs
Affected airplanes | Affected airplane groups | Work hours | Average hourly labor rate | Cost of parts | Cost per airplane
767-200, 767-300, 767-300F | 1-39 | 29 | $80 | $ 8,924 | $ 11,244
| 40-79 | 25 | 80 | 8,495 | 10,495
| 80-81 | 3 | 80 | 420 | 660
767-400ER | All | 23 | 80 | 7,911 | 9,751

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-16-06 Boeing: Amendment 39-15989. Docket No. FAA-2007-29173; Directorate Identifier 2006-NM-283-AD.

Effective Date

(a) This airworthiness directive (AD) is effective September 9, 2009.

Affected ADs

(b) None.

Applicability

(c) This AD applies to all Boeing Model 767-200, -300, -300F, and -400ER series airplanes, certificated in any category.

Unsafe Condition

(d) This AD results from a design review of the fuel tank systems. We are issuing this AD to prevent an overheat condition outside the center tank fuel pump explosion-resistance area that is open to the pump inlet, which could cause an ignition source for the fuel vapors in the fuel tank and result in fuel tank explosions and consequent loss of the airplane.

Compliance

(e) You are responsible for having the actions required by this AD performed within the compliance times specified, unless the actions have already been done.

Installation

(f) For Model 767 airplanes with line numbers 1 through 940 inclusive: Within 36 months after the effective date of this AD, install an automatic shutoff system for the center tank fuel pump, in accordance with Boeing Service Bulletin 767-28A0083, Revision 2, dated February 12, 2009 (for Model 767-200, -300, and -300F airplanes); or Boeing Service Bulletin 767-28A0084, Revision 1, dated April 26, 2007 (for Model 767-400ER airplanes); as applicable.

Installation According to Previous Issue of Service Bulletin

(g) Installing an automatic shutoff system is also acceptable for compliance with the requirements of paragraph (f) of this AD if done before the effective date of this AD in accordance with service information identified in Table 1 of this AD.

Table 1—Previous Issues of Service Bulletins
Boeing service information | Revision level | Date
Alert Service Bulletin 767-28A0083 | Original | May 3, 2006.
Alert Service Bulletin 767-28A0084 | Original | May 3, 2006.
Service Bulletin 767-28A0083 | 1 | April 26, 2007.

Revision of Airplane Flight Manual (AFM)

(h) For Model 767 airplanes with line numbers 1 through 940 inclusive: Concurrently with accomplishing the actions required by paragraph (f) of this AD, revise Section 1, Certificate Limitations, of the Boeing 767 AFM to include the following:

“CENTER TANK FUEL PUMPS

Center tank fuel pump switches must not be “ON” unless personnel are available in the flight deck to monitor low PRESS lights.

For ground operations prior to engine start: The center tank fuel pump switches must not be positioned ON unless the center tank contains usable fuel. With center tank fuel pump switches ON, verify both center tank fuel pump low PRESS lights are illuminated and EICAS CTR L FUEL PUMP and CTR R FUEL PUMP messages are displayed.

For ground operations after engine start and flight operations: The center tank fuel pump switch must be selected OFF when the respective CTR L FUEL PUMP or CTR R FUEL PUMP message displays. Both center tank fuel pump switches must be selected OFF when either the CTR L FUEL PUMP or CTR R FUEL PUMP message displays if the center tank is empty. During cruise flight, both center tank pump switches may be reselected ON whenever center tank usable fuel is indicated.

DE-FUELING AND FUEL TRANSFER

When transferring fuel or de-fueling center or main wing tanks, the fuel pump low PRESS lights must be monitored and the respective fuel pump switches positioned to “OFF” at the first indication of low pressure. Prior to transferring fuel or de-fueling, conduct a lamp test of the respective fuel pump low PRESS lights.

Intentional dry running of a center tank fuel pump (CTR L FUEL PUMP or CTR R FUEL PUMP message displayed on EICAS) is prohibited.

Do not reset a tripped fuel pump or fuel pump control circuit breaker.”

This may be done by inserting a copy of this AD into the AFM.

Note 1: When statements identical to those in paragraph (h) of this AD have been included in the general revisions of the AFM, the general revisions may be inserted into the AFM, and the copy of this AD may be removed from the AFM.

Placard Installation

(i) For Model 767-200, -300, or -300F airplanes that meet the conditions of paragraphs (i)(1) and (i)(2) of this AD: Within 30 days after the effective date of this AD, install a placard in the flight deck adjacent to each pilot's primary flight display, to alert the flightcrew to follow the procedures required by paragraph (b) of AD 2001-15-08. The placard must include the following statement: “AD 2001-15-08 fuel usage restrictions required.” Alternative placard wording may be used if approved by an appropriate FAA Principal Operations Inspector. Alternative placard methods and alternative methods of mixed fleet configuration control may be used if submitted for review in accordance with the procedures specified in paragraph (m) of this AD.

(1) The airplane is operated in a fleet of airplanes on which the actions specified in paragraph (f) of this AD have been done on at least one of the fleet's airplanes.

(2) The actions specified in paragraph (i) of AD 2001-15-08 (installation of modified center tank override and override/jettison fuel pumps that are not subject to the unsafe condition described in this AD) or paragraph (f) of this AD have not been done on the airplane.

Note 2: If the actions specified in paragraph (f) of this AD have been done on all airplanes operated within an operator's fleet, or if operation according to the fuel usage restrictions of AD 2001-15-08 is maintained until automatic shutoff systems are installed on all airplanes in an operator's fleet: No placard is necessary before removal of the wet shutoff restrictions of AD 2001-15-08.

Optional Terminating Action for Paragraphs (f), (h), and (i) of this AD: Deactivation of Center Fuel Tanks

(j) Deactivation of the center fuel tanks, in accordance with Boeing Alert Service Bulletin 767-28A0050, dated December 18, 1997; or Boeing Service Bulletin 767-28A0050, Revision 1, dated December 22, 1999; terminates the requirements of paragraphs (f), (h), and (i) of this AD, except as provided by paragraph (k) of this AD.

Reactivation of Center Fuel Tanks

(k) For any airplane on which the center fuel tank is reactivated, the center fuel tank must be reactivated in accordance with a method approved by the Manager, Seattle Aircraft Certification Office (ACO), FAA. For any airplane on which the center fuel tank is reactivated, the requirements of paragraphs (f), (h), and (i) of this AD must be done before further flight following the reactivation, or within 36 months after the effective date of this AD, whichever occurs later. For a reactivation method to be approved, the reactivation method must meet the certification basis of the airplane, and the approval must specifically reference this AD.

Terminating Action for AD 2001-15-08

(l) For airplanes that have automatic shutoff systems installed: Accomplishing paragraphs (f) and (i) of this AD terminates the requirements of paragraphs (b) and (c) of AD 2001-15-08.

Alternative Methods of Compliance (AMOCs)

(m)(1) The Manager, Seattle ACO, FAA, has the authority to approve AMOCs for this AD, if requested using the procedures found in 14 CFR 39.19. Send information to ATTN: Douglas Bryant, Aerospace Engineer, Propulsion Branch, ANM-140S, FAA, Seattle ACO, 1601 Lind Avenue, SW., Renton, Washington 98057-3356; telephone (425) 917-6505; fax (425) 917-6590. Or, e-mail information to 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Material Incorporated by Reference

(n) You must use Boeing Service Bulletin 767-28A0083, Revision 2, dated February 12, 2009; or Boeing Service Bulletin 767-28A0084, Revision 1, dated April 26, 2007; as applicable; to do the actions required by this AD, unless the AD specifies otherwise. If you accomplish the optional terminating action specified by this AD, you must use Boeing Alert Service Bulletin 767-28A0050, dated December 18, 1997; or Boeing Service Bulletin 767-28A0050, Revision 1, dated December 22, 1999; to perform those actions, unless the AD specifies otherwise.

(1) The Director of the Federal Register approved the incorporation by reference of Boeing Service Bulletin 767-28A0083, Revision 2, dated February 12, 2009; and Boeing Service Bulletin 767-28A0084, Revision 1, dated April 26, 2007; under 5 U.S.C. 552(a) and 1 CFR part 51.

(2) The Director of the Federal Register previously approved the incorporation by reference of Boeing Alert Service Bulletin 767-28A0050, dated December 18, 1997; and Boeing Service Bulletin 767-28A050, Revision 1, dated December 22, 1999; on September 4, 2001 (66 FR 39417, July 31, 2001).

(3) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

(4) You may review copies of the service information at the FAA, Transport Airplane Directorate, 1601 Lind Avenue SW., Renton, Washington. For information on the availability of this material at the FAA, call 425-227-1221 or 425-227-1152.

(5) You may also review copies of the service information that is incorporated by reference at the National Archives and Records Administration (NARA). For information on the availability of this material at NARA, call 202-741-6030, or go to: http://www.archives.gov/federal_register/code_of_federal_regulations/ibr_locations.html.

Issued in Renton, Washington, on July 24, 2009.
Ali Bahrami,
Manager, Transport Airplane Directorate, Aircraft Certification Service.

[FR Doc. E9-18423 Filed 8-4-09; 8:45 am]

BILLING CODE 4910-13-P